FEDERAL COMMUNICATIONS COMMISSION

47 CFR Parts 2, 27 and 73

[GN Docket No. 01-74; DA 02-607]

Reallocation and Service Rules for the 698-746 MHz Spectrum Band (Television Channels 52-59)

AGENCY: Federal Communications Commission.

ACTION: Final rule; deadlines for filing oppositions to petitions for reconsideration and replies to oppositions to petitions for reconsideration.

SUMMARY: This document gives notice of petitions for reconsideration of the Report and Order in GN Docket No. 01-74, FCC 01-364, concerning the reallocation and service rules for the 698-746 MHz spectrum band (Television Channels 52-59), and sets an expedited schedule for filing oppositions to the petitions for reconsideration and replies to such oppositions.

DATES: Oppositions are due on or before March 25, 2002, and replies are due on or before April 1, 2002.

ADDRESSES: Oppositions and replies may be filed by paper or electronically. If filed by paper by hand delivery, documents should be delivered to 236 Massachusetts Avenue, NE., Suite 110, Washington, DC 20002. If filed by overnight delivery service (other than U.S. Postal Service Express and Priority Mail), filings must be received at the Commission's headquarters at 445 12th Street, SW, Washington, DC 20554; those deliveries will then be diverted to the Commission's Capitol Heights facility. Oppositions and replies filed electronically (by email or by facsimile) should be done as set forth in this document. In addition, one copy of each opposition and reply must be delivered to the Commission's duplicating contractor, Qualex International, Portals II, 445 12th Street, SW, Room CY-B402, Washington, DC 20554, telephone (202) 863-2893, by facsimile (202) 863-2898, or via e-mail at qualexint@aol.com.

FOR FURTHER INFORMATION CONTACT: G. William Stafford, Wireless Telecommunications Bureau, at (202) 418-0563, email: wstaffor@fcc.gov; Michael Rowan, Wireless Telecommunications Bureau, at (202) 418-1883, email: mrowan@fcc.gov; or Jamison Prime, Office of Engineering and Technology, at (202) 418-1883, email: jprime@fcc.gov.

SUPPLEMENTARY INFORMATION: This is a summary of a Public Notice released March 14, 2001. The complete text is available for inspection and copying during normal business hours in the FCC Reference Center (CY-A257), 445 12th Street, SW., Washington, DC. It may also be purchased from the Commission's copy contractor, Qualex International, Portals II, 445 12th Street, SW., Room CY-B402, Washington, DC 20554, telephone (202) 863-2893. It is also available on the Commission's web site at http://www.fcc.gov.

1. Notice is hereby given that the parties listed have petitioned the Commission for reconsideration and clarification of the Report and Order in GN Docket No. 01-74, FCC 01-364, 67 FR 5491 (February 6, 2002). In the Report and Order, the Commission adopted allocation and service rules for the 698-746 MHz spectrum band (“Lower 700 MHz Band”), currently comprising television Channels 52-59, in order to reclaim and license this spectrum in accordance with statutory mandate. This spectrum is being reclaimed for new commercial services as part of the transition of television broadcasting from analog to digital transmission systems. The Communications Act of 1934, as amended, requires the Commission to assign spectrum reclaimed from broadcast television using competitive bidding, and envisions that the Commission will conduct an auction of this spectrum by September 30, 2002.

2. In light of the upcoming auction of licenses in the Lower 700 MHz band at 698-746 MHz (Auction No. 44), which is scheduled to commence on June 19, 2002, good cause exists in this instance to alter the periods specified in § 1.429 of the Commission's rules, 47 CFR 1.429, for the filing of oppositions to petitions for reconsideration and replies to oppositions. The petitions filed by the parties listed seek reconsideration or clarification of a number of the policies and procedures adopted in the Report and Order, which are relevant to the transition of the 698-746 MHz band from broadcasting to new services. An expedited schedule will give the Commission an opportunity to provide timely guidance regarding these issues to prospective bidders and incumbent broadcasters in advance of Auction No. 44. Accordingly, oppositions to petitions for reconsideration of the Report and Order shall be filed no later than March 25, 2002, and replies to oppositions will be due no later than April 1, 2001.

Procedural Matters

4. Parties submitting oppositions or replies should address the issues raised in the petitions for reconsideration in light of the relevant statutory requirements, procedures, and public interest considerations. All responsive filings should reference the docket number of this proceeding, i.e., GN Docket No. 01-74.

5. This proceeding has been designated as a “permit-but-disclose” proceeding in accordance with the Commission's ex parte rules. 47 CFR 1.1200(a), 1.1206. Persons making oral ex parte presentations are reminded that memoranda summarizing the presentations must reflect the substance of the presentations and not merely list the subjects discussed. More than a one or two sentence description of the views and arguments presented is generally required. Other rules pertaining to oral and written ex parte presentations in permit-but-disclose proceedings are set forth in Section 1.1206(b) of the Commission's rules, 47 CFR 1.1206(b).

6. Parties may obtain copies of the Report and Order and petitions for reconsideration at the FCC website, http://www.fcc.gov/e-file/ecfs.html. The petitions are also available for public inspection and copying in the Reference Center, Room CY A257, 445 12th Street, SW., Washington, DC 20554. Copies of the petitions are also available from Qualex International, Portals II, 445 12th Street, SW., Room CY-B402, Washington, DC 20554, telephone (202) 863-2893, facsimile (202) 863-2898, or e-mail at qualexint@aol.com.

7. Oppositions to petitions for reconsideration and replies may be filed using the Commission's Electronic Comment Filing System (“ECFS”) or by filing paper copies. Oppositions and replies filed through the ECFS can be sent as an electronic file via the Internet to http://www.fcc.gov/e-file/ecfs.html. Each filing should be submitted into the following docket: GN Docket No. 01-74. In completing the transmittal screen, parties should include their full name and Postal Service mailing address. Parties may also submit an electronic filing by Internet e-mail. To get filing instructions for e-mail filings, parties should send an e-mail message to ecfs@fcc.gov, including “get form to <your e-mail address>” in the body of the message. A sample form and directions will be sent in response.

8. Due to the threat of contamination that resulted in the disruption of regular mail, the Commission released on November 29, 2001, an Order, temporarily amending certain procedural rules on an emergency basis. Oppositions to petitions for reconsideration and replies thereto must be filed electronically (i.e., by e-mail or facsimile), or by hand delivery to the Commission's Massachusetts Avenue location.

9. If filed electronically by e-mail, oppositions to petitions for reconsideration and replies thereto shall be filed at the following e-mail address: WTBSecretary@fcc.gov. Please also copy (CC) G. William Stafford at wstafford@fcc.gov, Michael J. Rowan at mrowan@fcc.gov, and Jamison Prime at jprime@fcc.gov. For security purposes, we recommend that documents filed via electronic mail be converted to PDF format.

10. If filed by facsimile, oppositions to petitions for reconsideration and replies thereto shall be faxed to 202-418-0187. The fax transmission should include a cover sheet listing contact name, phone number and, if available, an e-mail address. In addition to the official filing, please also fax copies to G. William Stafford, Room 4-A124, Policy and Rules Branch, Commercial Wireless Division, Wireless Telecommunications Bureau, Michael J. Rowan, Room 4-A131, Policy and Rules Branch, Commercial Wireless Division, Wireless Telecommunications Bureau, and Jamison Prime, Room 4-A734, Office of Engineering and Technology, at (202) 418-7447.

11. If filed by hand delivery, documents shall be delivered to 236 Massachusetts Avenue, NE, Suite 110, Washington DC 20002. Please address documents to the Secretary, and copies thereof to the attention of G. William Stafford, Room 4-A124, Policy and Rules Branch, Commercial Wireless Division, Wireless Telecommunications Bureau, Michael J. Rowan, Room 4-A131, Policy and Rules Branch, Commercial Wireless Division, Wireless Telecommunications Bureau, and Jamison Prime, Room 4-A734, Office of Engineering and Technology.

12. If filed by overnight delivery service (other than U.S. Postal Service Express and Priority Mail), filings must be received at the Commission's headquarters at 445 12th Street, SW., Washington, DC 20554. As noted in the October 17 and October 18, 2001 public notices, the Commission will divert those deliveries to the Capitol Heights facility.

13. In addition, one copy of each opposition to petitions for reconsideration and each reply thereto must be delivered to the Commission's duplicating contractor, Qualex International, Portals II, 445 12th Street, SW, Room CY-B402, Washington, DC 20554, telephone (202) 863-2893, by facsimile (202) 863-2898, or via e-mail at qualexint@aol.com.

14. Listed are the parties filing petitions for reconsideration and clarification of the Report and Order in GN Docket No. 01-74:

Spectrum Clearing Alliance (by Paxson Communications Corporation) (February 5, 2002); Supplement to Petition (March 8, 2002).

KM Communications, Inc. (March 6, 2002).

Office of the Chief Technology Officer, Government of the District of Columbia (March 8, 2002).

Access Spectrum, LLC (March 8, 2002).

Spectrum Exchange Group, LLC and Allen & Company Incorporated (March 8, 2002).

The WB Television Network (March 8, 2002).

Pappas Telecasting of America, a California Limited Partnership, and Iberia Communications, LLC (Joint Petition) (March 8, 2002).

Univision Television Group, Inc. (March 8, 2002).

Federal Communications Commission.
William W. Kunze,
Chief, Wireless Telecommunications Bureau, Commercial Wireless Division.

[FR Doc. 02-6621 Filed 3-18-02; 8:45 am]

BILLING CODE 6712-01-P